DEPARTMENT OF TRANSPORTATION

Federal Aviation Administration

[Docket No. FAA-2023-0754; Summary Notice No. 2024-40]

Petition for Exemption; Summary of Petition Received; Global Aviation Technologies

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before October 21, 2024.

ADDRESSES: Send comments identified by docket number FAA-2023-0754 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Michael Harrison, AIR-646, Federal Aviation Administration, phone (206) 231-3368, email michael.harrison@faa.gov. This notice is published pursuant to 14 CFR 11.85.

Issued in in Kansas City, Missouri, on September 25, 2024.
James Wilborn,
Acting Manager, Technical Policy Branch, Policy and Standards Division, Aircraft Certification Service.

Petition for Exemption

Docket No.: FAA-2023-0754.

Petitioner: Global Aviation Technologies.

Section(s) of 14 CFR Affected: §§ 23.807(d)(1)(i), 23.807(e)(1)(2), and 23.812.

Description of Relief Sought: The petitioner requests relief from § 23.807(d)(1)(i), which is a commuter category airplane safety requirement, that requires an airplane with a total passenger seating capacity of 15 or fewer to have an emergency exit on each side of the cabin (as defined in § 23.807(b)) in addition to the passenger entry door.

The petitioner also requests relief from § 23.807(e)(1) and (2) which are commuter category airplane safety requirements, that require an airplane's ditching emergency exits to be above the waterline on each side or have a readily accessible overhead hatch.

The petitioner also requests relief from § 23.812, which contains the safety requirements for commuter category airplanes for emergency lighting.

The requested relief is for the Textron Model 390 airplane, Type Certificate A00010WI, which was certified as normal category. The petitioner's project would increase the gross weight of the airplane which would necessitate compliance with the requirements for commuter category airplanes. The petitioner is not increasing the airplane's passenger capacity.

[FR Doc. 2024-22447 Filed 9-30-24; 8:45 am]

BILLING CODE 4910-13-P